INTER-AMERICAN FOUNDATION

Sunshine Act Meetings

Inter-American Foundation Board Meeting.

TIME AND DATE: March 25, 2013, 9:00 a.m.-1:00 p.m.

PLACE: 1331 Pennsylvania Ave. NW., 12th floor north, Suite 1200, Washington, DC 20004.

STATUS: Open session.

MATTERS TO BE CONSIDERED: Approval of the Minutes of the December 10, 2012, Meeting of the Board of Directors.

Management Report.

Remarks by Ricardo Zúñiga, Special Assistant to the President and Senior Director for Western Hemisphere Affairs, National Security Council.

Report from trip to Guatemala.

PORTIONS TO BE OPEN TO THE PUBLIC: Approval of the Minutes of the December 10, 2012, Meeting of the Board of Directors.

Management Report.

Remarks by Ricardo Zúñiga, Special Assistant to the President and Senior Director for Western Hemisphere Affairs, National Security Council.

Report from trip to Guatemala.

CONTACT PERSON FOR MORE INFORMATION: Mara Q. Campbell, Associate General Counsel, 202.683.7118.

Mara Q. Campbell,
Associate General Counsel.

[FR Doc. 2013-05919 Filed 3-11-13; 4:15 pm]

BILLING CODE 7025-01-P